FEDERAL COMMUNICATIONS COMMISSION

[GN Docket No. 19-329; FRS 16260]

Meeting of the Task Force for Reviewing the Connectivity and Technology Needs of Precision Agriculture in the United States

AGENCY: Federal Communications Commission.

ACTION: Notice.

SUMMARY: In this document, the Federal Communications Commission (FCC) announces and provides an agenda for the first meeting of the “Task Force for Reviewing the Connectivity and Technology Needs of Precision Agriculture in the United States” (the Task Force).

DATES: December 9, 2019. The meeting will come to order at 9:30 a.m.

ADDRESSES: Federal Communications Commission, 445 12th Street SW, Room TW-C305, Washington, DC 20554.

FOR FURTHER INFORMATION CONTACT: Jesse Jachman, Designated Federal Officer, Federal Communications Commission, Wireline Competition Bureau, (202) 418-2668, or email: Jesse.Jachman@fcc.gov; Erin Boone, Deputy Designated Federal Officer, Federal Communications Commission, Wireless Telecommunications Bureau, (202) 418-0736, or email: Erin.Boone@fcc.gov; or Celia Lewis, Deputy Designated Federal Officer, Federal Communications Commission, Wireline Competition Bureau, (202) 418-7456, or email Celia.Lewis@fcc.gov.

SUPPLEMENTARY INFORMATION: This meeting is open to members of the general public. The FCC will accommodate as many participants as possible; however, admittance will be limited to seating availability. The FCC will also provide audio and/or video coverage of the meeting over the internet from the FCC's web page at www.fcc.gov/live. Oral statements at the meeting by parties or entities not represented on the Task Force will be permitted to the extent time permits, at the discretion of the Task Force Chair and the Designated Federal Officer. Members of the public may submit comments to the Task Force in the FCC's Electronic Comment Filing System, ECFS, at www.fcc.gov/ecfs. Comments to the Task Force should be filed in GN Docket No. 19-329.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted but may not be possible to accommodate.

Proposed Agenda: The primary agenda of the Task Force's first meeting will be to introduce members of the Task Force, describe the working groups, review the Agricultural Improvement Act of 2018, Public Law 115-334, 132 Stat 4490, and existing FCC and U.S. Department of Agriculture programs and policies relevant to the Task Force's duties, and begin discussing strategies to advance broadband deployment on agricultural land and promote precision agriculture. This agenda may be modified at the discretion of the Task Force Chair and the Designated Federal Officer.

Federal Communications Commission.
Marlene Dortch,
Secretary.

[FR Doc. 2019-25075 Filed 11-18-19; 8:45 am]

BILLING CODE 6712-01-P